JUDICIAL CONFERENCE OF THE UNITED STATES

Hearings of the Judicial Conference Advisory Committee on the Federal Rules of Evidence

AGENCY: Advisory Committee on the Federal Rules of Evidence, Judicial Conference of the United States.

ACTION: Notice of cancellation of public hearing.

SUMMARY: The following public hearing on proposed amendments to the Federal Rules of Evidence has been canceled: Evidence Rules Hearing on January 6, 2016 in Phoenix, Arizona. Announcements for this meeting were previously published in 80 FR 48120, 80 FR 50324 and 80 FR 51604. The public hearing on proposed amendments to the Federal Rules of Evidence scheduled for February 12, 2016, in Washington, DC, remains scheduled, subject to sufficient expressions of interest.

FOR FURTHER INFORMATION CONTACT: Rebecca A. Womeldorf, Rules Committee Secretary, Rules Committee Support Office, Administrative Office of the United States Courts, Washington, DC 20544, telephone (202) 502-1820.

Dated: December 10, 2015.
Rebecca A. Womeldorf,
Rules Committee Secretary.

[FR Doc. 2015-31493 Filed 12-14-15; 8:45 am]

BILLING CODE 2210-55-P